DEPARTMENT OF DEFENSE

Office of the Secretary

[Transmittal No. 24-0U]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0U.

Dated: January 8, 2026.
Stephanie J. Bost,
Alternate OSD Federal Register Liaison Officer, Department of Defense.

BILLING CODE 6001-FR-P

BILLING CODE 6001-FR-C

Transmittal No. 24-0U

REPORT OF ENHANCEMENT OR UPGRADE OF SENSITIVITY OF TECHNOLOGY OR CAPABILITY (SEC. 36(B)(5)(C), AECA)

(i) Purchaser: Government of Israel

(ii) Sec. 36(b)(1), AECA Transmittal No.: 24-16

Date: December 29, 2023

Implementing Agency: Army

Funding Source: Foreign Military Financing

(iii) Description: On December 29, 2023, Congress was notified by congressional certification transmittal number 24-16 of the possible sale, under Section 36(b)(1) of the Arms Export Control Act, of four thousand seven hundred ninety-two (4,792) M107 155mm High Explosive projectiles. Also included were various 155mm projectiles; propelling charges; 155mm ancillaries; publications; technical documentation; United States (U.S.) Government and contractor engineering, technical, and logistics support services; and other related elements of logistics and program support. The estimated total cost was $147.5 million. Major Defense Equipment (MDE) constituted $7.5 million of this total.

This transmittal notifies the inclusion of an additional ten thousand (10,000) M107 and/or M795 155mm High Explosive projectiles. Also included are the following non-MDE items: various 155mm projectiles; publications; technical documentation; U.S. Government and contractor engineering, technical and logistics support services; studies and surveys; and other related elements of logistical and program support. The total value of the new items and services is $312.5 million. The net cost of MDE will increase by $20.5 million, resulting in a revised MDE value of $28 million. The net cost of non-MDE will increase by $292 million, resulting in a revised non-MDE value of $432 million. The estimated total case value will increase by $312.5 million to $460 million.

(iv) Significance: Israel will use the enhanced capability as a deterrent to regional threats and to strengthen its homeland defense.

(v) Justification: The U.S. is committed to the security of Israel, and it is vital to U.S. national interests to assist Israel to develop and maintain a strong and ready self-defense capability. This proposed sale is consistent with those objectives.

(vi) Sensitivity of Technology: The Sensitivity of Technology Statement contained in the original notification applies to items reported here.

The highest level of classification of defense articles, components, and services included in this potential sale is UNCLASSIFIED.

(vii) Date Report Delivered to Congress: February 7, 2025

[FR Doc. 2026-00444 Filed 1-12-26; 8:45 am]

BILLING CODE 6001-FR-P